FEDERAL COMMUNICATIONS COMMISSION

47 CFR Part 73

[DA 08-2273; MB Docket No. 08-68; RM-11421]

Radio Broadcasting Services; Beatty and Goldfield, NV

AGENCY: Federal Communications Commission.

ACTION: Proposed rule.

SUMMARY: The Audio Division at the request of Keilly Miller proposes the allotment of Channel 259A at Beatty, Nevada and Channel 262C1 at Goldfield, Nevada to accommodate a hybrid FM change of community of license application that proposes the substitution of Channel 261C3 for Channel 261C at Beatty, Nevada, reallotment of Channel 261C3 from Beatty, Nevada to Crystal, Nevada, as its first local service. See File No. BMPH-20070727ABV. A staff engineering analysis indicates that Channel 259A can be allotted to Beatty consistent with the minimum distance separation requirements of the Rules with a site restriction 8.6 kilometers (5.3 miles) west located at reference coordinates 36-56-05 NL and 116-51-00 WL. Additionally, Channel 262C1 can be allotted to Goldfield consistent with the minimum distance separation requirements of the Commission's Rules (the “Rules”) with a site restriction 0.6 kilometers (0.4 miles) northeast of the community located at reference coordinates 37-42-41 NL and 117-13-56 WL.

DATES: Comments must be filed on or before December 1, 2008, and reply comments on or before December 16, 2008.

ADDRESSES: Secretary, Federal Communications Commission, 445 Twelfth Street, SW., Washington, DC 20554. In addition to filing comments with the FCC, interested parties should serve the petitioner, as follows: John S. Neely, Esq., Counsel to Keilly Miller, Miller and Neely, P.C., 6900 Wisconsin Avenue, Suite 704, Bethesda, MD 20815.

FOR FURTHER INFORMATION CONTACT: Rolanda F. Smith, Media Bureau, (202) 418-2180.

SUPPLEMENTARY INFORMATION: This is a synopsis of the Commission's Notice of Proposed Rule Making, MB Docket No. 08-68, adopted October 8, 2008, and released October 10, 2008. The full text of this Commission decision is available for inspection and copying during normal business hours in the FCC's Reference Information Center at Portals II, CY-A257, 445 Twelfth Street, SW., Washington, DC 20554. This document may also be purchased from the Commission's duplicating contractors, Best Copy and Printing, Inc., 445 12th Street, SW., Room CY-B402, Washington, DC 20554, telephone 1-800-378-3160 or via e-mail http://www.BCPIWEB.com. This document does not contain proposed information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4).

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio, Radio broadcasting.

For the reasons discussed in the preamble, the Federal Communications Commission proposes to amend 47 CFR Part 73 as follows:

PART 73—RADIO BROADCAST SERVICES

1. The authority citation for part 73 continues to read as follows:

Authority: 47 U.S.C. 154, 303, 334, 336.

§ 73.202 [Amended]

2. Section 73.202(b), the Table of FM Allotments under Nevada, is amended by adding Beatty, Channel 259A and by adding Goldfield, Channel 262C1.

Federal Communications Commission.
John A. Karousos,
Assistant Chief, Audio Division, Media Bureau.

[FR Doc. E8-25347 Filed 10-22-08; 8:45 am]

BILLING CODE 6712-01-P